DEPARTMENT OF JUSTICE

Antitrust Division

Notice Pursuant to the National Cooperative Research and Production Act of 1993—Toyota Motor Corporation and Ford Motor Company Collaboration

Notice is hereby given that, on November 18, 2011, pursuant to Section 6(a) of the National Cooperative Research and Production Act of 1993, 15 U.S.C. 4301 et seq. (“the Act”), Toyota Motor Corporation and Ford Motor Company Collaboration (“Toyota and Ford”) has filed written notifications simultaneously with the Attorney General and the Federal Trade Commission disclosing (1) The identities of the parties to the venture and (2) the nature and objectives of the venture. The notifications were filed for the purpose of invoking the Act's provisions limiting the recovery of antitrust plaintiffs to actual damages under specified circumstances.

Pursuant to Section 6(b) of the Act, the identities of the parties to the venture are: Toyota Motor Corporation, Toyota City, JAPAN; and Ford Motor Company, Dearborn, MI.

The general area of Toyota and Ford's planned activity is the research and development of (a) A hybrid system initially targeted for use in sport utility vehicles and light trucks, and (b) standards and/or enabling technologies for vehicle telematics. The parties may subsequently agree to expand the scope of the collaboration to include production.

Patricia A. Brink,
Director of Civil Enforcement, Antitrust Division.

[FR Doc. 2011-32113 Filed 12-14-11; 8:45 am]

BILLING CODE P